DEPARTMENT OF THE INTERIOR

Fish and Wildlife Service

Notice of Availability of a Draft Environmental Assessment Entitled: Proposal To Implement Candidate Conservation Agreements and Conservation Measures for Eastern Massasaugas in States Within Region 3 of the U.S. Fish and Wildlife Service

AGENCY: Fish and Wildlife Service, Interior.

ACTION: Notice of availability.

SUMMARY: This notice advises the public and other agencies of the availability of a draft Environmental Assessment (EA) and that the U.S. Fish and Wildlife Service (Service) is seeking public comment on this draft EA. The eastern massasauga (Sistrurus catenatus catenatus, hereafter massasauga) is a Federal candidate species for listing under the Endangered Species Act of 1973, as amended. The purpose of the EA is to evaluate the environmental consequences of implementing different strategies for conserving the remaining massasauga populations in Region 3. The Service believes that implementing adequate conservation efforts during the candidate stage may be sufficient to preclude the need to Federally list the subspecies.

DATES: Written comments must be received on or before November 26, 2003.

ADDRESSES: Written comments can be mailed to the address or fax number below. Electronic mail comments should be submitted to: fw3_massasauga@fws.gov. Persons wishing to review the document may obtain a copy by writing, telephoning, faxing, or e-mailing: Regional CCA Coordinator, U.S. Fish and Wildlife Service, 1 Federal Drive, Fort Snelling, Minnesota 55111; Telephone: (612) 713-5343; Fax: (612) 713-5292. The draft EA is also available at the following Internet address: http://midwest.fws.gov/nepa.

FOR FURTHER INFORMATION CONTACT: Mr. Peter Fasbender, Regional CCA Coordinator, Telephone: (612) 713-5343, or e-mail: peter_fasbender@fws.gov.

SUPPLEMENTARY INFORMATION:

Public Involvement

The draft EA is available for public review and comment for a period of 30 days. This notice is provided pursuant to National Environmental Policy Act (NEPA) regulations (40 CFR 1506.6). Copies of the document can be obtained as indicated in the ADDRESSES section. In addition, documents will be available for public inspection during normal business hours (8-4:30), at the U.S. Fish and Wildlife Service, 1 Federal Drive, Fort Snelling, Minnesota.

All comments received from individuals become part of the official public record. Requests for such comments will be handled in accordance with the Freedom of Information Act and the Council on Environmental Quality's NEPA regulations (40 CFR 1506.6(f)). Our practice is to make comments, including names and home addresses of respondents, available for public review during regular business hours. Individual respondents may request that we withhold their home address from the record, which we will honor to the extent allowable by law. If a respondent wishes us to withhold his/her name and/or address, this must be stated prominently at the beginning of the comment.

Candidate Conservation Agreements

Candidate Conservation Agreements (CCAs) are formal agreements between the Service and one or more parties to address the conservation needs of proposed or candidate species, or species likely to become candidates, before they become listed as endangered or threatened. The participants voluntarily commit to implementing specific actions that will remove or reduce the threats to these species, thereby contributing to stabilizing or restoring the species. In some cases, this may provide enough protection that listing is no longer necessary. The Service has entered into many Candidate Conservation Agreements over the years, primarily with other Federal agencies, State and local agencies, and conservation organizations. Some of these have successfully removed threats and listing was avoided.

Candidate Conservation Agreements with Assurances (CCAAs) provide non-Federal property owners who voluntarily agree to manage their lands or waters to remove threats to candidate or proposed species assurances that their conservation efforts will not result in future regulatory obligations in excess of those they agree to at the time they enter into the Agreement. In return for the participant's proactive management, the Service provides take authorization through the section 10(a)(1)(A) process of the ESA, which authorizes issuance of permits that will enhance the survival of the species. The permit would allow participants to take individuals or modify habitat to return population levels and habitat conditions to those agreed upon and specified in the Agreement.

Background on Candidate Conservation Agreements for Massasauga

The range of the eastern massasauga extends from western New York and southern Ontario to Iowa and southward to Missouri. The massasauga's decline is primarily attributed to habitat loss and persecution. The Service elevated the massasauga to the Federal candidate status in 1999. In 2001, the Service funded a region-wide massasauga conservation initiative. Region 3 States were given funds for the investigation and development of CCAs and CCAAs for pertinent Region 3 States, local land-management agencies, and private land owners. Illinois, Iowa, Michigan, Missouri, Ohio, and Wisconsin are the Region 3 States in various stages of CCA development. The CCA form will vary by State and site.

Background on Environmental Assessment

The draft EA considers two action alternatives and the “No Action” alternative. Alternative A implements CCA's or CCAA's for the massasauga on protected lands (i.e., state property) throughout Region 3. Alternative C relies on the use of current regulatory tools to recover the massasauga if it becomes listed under the Act. The NEPA process will be completed after the comment period, at which time the Service will consider and respond to any submitted comments in Chapter 7 of the final EA. The Regional Director will decide whether to select one of the three alternatives and issue a Finding of No Significant Impact (FONSI), or to proceed in developing an Environmental Impact Statement if she determines there would be significant impacts.

The areas included in Candidate Conservation Agreements (listed in Sub-Section 1.4 of the EA) may contain facilities eligible to be listed on the National Register of Historic Places and other historical or archeological resources. The National Historic Preservation Act and other laws require these properties and resources be identified and considered in project planning. The public is requested to inform the Service of concerns about archeological sites, buildings and structures, historic events, sacred and traditional areas, and other historic preservation concerns.

Authority: 16 U.S.C. 1531, et seq.; 42 U.S.C. 4321-4347.

Dated: September 23, 2003.
Lynn M. Lewis,
Acting Assistant Regional Director, Ecological Services, Region 3, Fort Snelling, Minnesota.

[FR Doc. 03-26977 Filed 10-24-03; 8:45 am]

BILLING CODE 4310-55-P